DEPARTMENT OF COMMERCE

International Trade Administration

Advisory Committee on Supply Chain Competitiveness Charter Renewal

AGENCY: International Trade Administration, U.S. Department of Commerce.

ACTION: Notice.

SUMMARY: The Chief Financial Officer and Assistant Secretary for Administration, with the concurrence of the General Services Administration, renewed the Charter for the Advisory Committee on Supply Chain Competitiveness on November 14, 2019.

DATES: The Charter for the Advisory Committee on Supply Chain Competitiveness was renewed on November 14, 2019.

FOR FURTHER INFORMATION CONTACT: Richard Boll, Supply Chain Team, Room 11014, U.S. Department of Commerce, 1401 Constitution Avenue NW, Washington, DC 20230; phone 202-482-1135; email: richard.boll@trade.gov.

SUPPLEMENTARY INFORMATION: The Chief Financial Officer and Assistant Secretary for Administration, with the concurrence of the General Services Administration, renewed the Charter for the Advisory Committee on Supply Chain Competitiveness on November 14, 2019. This Notice is published in accordance with the Federal Advisory Committee Act (FACA) (Title 5, United States Code, Appendix 2, § 9). It has been determined that the Committee is necessary and in the public interest. The Committee was established pursuant to Commerce's authority under 15 U.S.C. 1512, established under the Federal Advisory Committee Act (FACA), as amended, 5 U.S.C. app., and with the concurrence of the General Services Administration. The Committee provides advice to the Secretary on the necessary elements of a comprehensive policy approach to supply chain competitiveness designed to support U.S. export growth and national economic competitiveness, encourage innovation, facilitate the movement of goods, and improve the competitiveness of U.S. supply chains for goods and services in the domestic and global economy; and to provide advice to the Secretary on regulatory policies and programs and investment priorities that affect the competitiveness of U.S. supply chains. The total number of members that may serve on the Committee is a maximum of 45.

Dated: December 18, 2019.
Maureen Smith,
Director, Office of Supply Chain and Professional & Business Services.

[FR Doc. 2019-27792 Filed 12-23-19; 8:45 am]

BILLING CODE 3510-DR-P